DEPARTMENT OF STATE

[Public Notice 5326]

Shipping Coordinating Committee; Notice of Meeting

The Shipping Coordinating Committee will conduct an open meeting at 9:30 a.m. on Monday, May 1, 2006 in Room 2415, at U.S. Coast Guard Headquarters, 2100 2nd Street, SW., Washington, DC 20593-0001. The purpose of this meeting will be to finalize preparations for the 81st Session of the Maritime Safety Committee, and associated bodies of the International Maritime Organization (IMO), which is scheduled for May 10-19, 2006 at IMO Headquarters in London. At this meeting, papers received and the draft U.S. positions for the Maritime Safety Committee will be discussed. Among other things, the items of particular interest are:

—Adoption of amendments to SOLAS for long range identification and tracking of ships, amendments to the IMDG Code, amendments to the International Convention on standards of Training, Certification and Watchkeeping for Seafarers, amendments to the FSS Code, and amendments to the LSA Code;

—Passenger ship safety;

—Measures to enhance maritime security;

—Goal-based new ship construction standards;

—Formal safety assessment;

—Reports of nine subcommittees—Stability, load lines and fishing vessel safety, Dangerous goods, solid cargoes and containers, Training and watchkeeping, Fire protection, Radiocommunications and search and rescue, Ship design and equipment, Flag State implementation, Bulk liquids and gases, and Safety of navigation.

Members of the public may attend this meeting up to the seating capacity of the room. Interested persons may seek information by writing to Mr. Howard Hime, Commandant (G-PS), U.S. Coast Guard Headquarters, 2100 2nd Street, SW., Room 1218, Washington, DC 20593-0001 or by calling (202) 267-2970.

Dated: April 5, 2006.
Clay Diamond,
Executive Secretary, Shipping Coordinating Committee, Department of State.

[FR Doc. E6-5401 Filed 4-11-06; 8:45 am]

BILLING CODE 4710-09-P